DEPARTMENT OF HOUSING AND URBAN DEVELOPMENT

[Docket No. FR-4950-FA-10]

Announcement of Funding Awards for Fiscal Year 2005; Community Outreach Partnership Centers

AGENCY: Office of the Assistant Secretary for Policy Development and Research, HUD.

ACTION: Announcement of funding awards.

SUMMARY: In accordance with Section 102(a)(4)(C) of the Department of Housing and Urban Development Reform Act of 1989, this document notifies the public of funding awards for Fiscal Year 2005 Community Outreach Partnerships Centers (COPC). The purpose of this document is to announce the names, addresses and the amount awarded to the winners to be used to establish and operate Community Outreach Partnership Centers that will conduct competent and qualified research and investigation on theoretical or practical problems in large and small cities; and facilitate partnerships and outreach activities between institutions of higher education, local communities and local governments to address urban problems.

FOR FURTHER INFORMATION CONTACT: Susan Brunson, Office of University Partnerships, U.S. Department of Housing and Urban Development, Room 8106, 451 Seventh Street, SW., Washington, DC 20410-6000, telephone (202) 708-3061, ext. 3852. To provide service for persons who are hearing-or-speech-impaired, this number may be reached via TTY by dialing the Federal Information Relay Service on (800) 877-8339 or (202) 708-1455. (Telephone numbers, other than “800” TTY numbers, are not toll free.)

SUPPLEMENTARY INFORMATION: The Community Outreach Partnership Centers Program was enacted in the Housing and Community Development Act of 1992 (Pub. L. 102-550, approved October 28, 1992) and is administered by the Office of University Partnerships under the Assistant Secretary for Policy Development and Research. In addition to this program, the Office of University Partnerships administers HUD's ongoing grant programs to institutions of higher education as well as creates initiatives through which colleges and universities can bring their traditional missions of teaching, research, service, and outreach to bear on the pressing local problems in their communities.

The Community Outreach Partnership Centers Program provides funds for: Research activities which have practical application for solving specific problems in designated communities and neighborhoods; outreach, technical assistance and information exchange activities which are designed to address specific problems associated with housing, economic development, neighborhood revitalization, infrastructure, health care, job training, education, crime prevention, planning, and community organizing. On March 21, 2005 (70 FR13743), HUD published a Notice of Funding Availability (NOFA) announcing the availability of $6.64 million. The Department reviewed, evaluated, and scored the applications received based on the criteria in the NOFA. As a result, HUD has funded 13 applications for New Grants and 7 applications for New Directions. New Grants, which cannot exceed $400,000, are for institutions of higher education just beginning a COPC project. New Directions Grants, which cannot exceed $200,000, are for institutions of higher education that are undertaking new activities or expanding into new neighborhoods. These grants, with their grant amounts are identified below.

The Catalog of Federal Domestic Assistance number for this program is 14.511.

In accordance with Section 102(a)(4)(C) of the Department of Housing and Urban Development Reform Act of 1989 (103 Stat. 1987, U.S.C. 3545), the Department is publishing details concerning the recipients of funding awards, as follows:

List of Awardees for Grant Assistance Under the FY 2005 Community Outreach Partnership Center (COPC) Communities Program Funding Competition, by Institution, Address and Grant Amount

COPC New Grants

1. State Center Community College District, Mr. Charles Francis, State Center Community College District, 1101 E. University Avenue, Fresno, CA 93741 Grant: $399,965.

2. University of Maine System, Ms. Kathy Hunt, University of Maine System, 5717 Corbett Hall, Office of Research & Sponsored Programs, Orono, ME 04469 Grant: $396,281.

3. Board of Regents of the University of Oklahoma, Dr. Shawn Schaefer, Board of Regents of the University of Oklahoma, 731 Elm Avenue, Room 134, Norman, OK 73019 Grant: $386,051.

4. University of South Carolina Research Foundation, Ms. Danielle McElwain, University of South Carolina Research Foundation, 901 Sumter Street, Byrnes Center, 5th Floor, Columbia, SC 29208 Grant: $394,536.

5. Niagra University, Mrs. Adrienne Leibowitz, Niagra University, Office of the President, Alumni Hall 1st Floor, Niagra University, NY 14109. Grant: $399,891.

6. Research Foundation of SUNY/SUNY Fredonia, Mrs. Maggie Bryan-Peterson, Research Foundation of SUNY/SUNY Fredonia, Grants Administration/Research Services, E20 Thompson Hall, Fredonia, NY 14063. Grant: $399,868.

7. The Regents of the University of California, Ms. Joan Kaiser, The Regents of the University of California, 3333 California Street, Suite 315, Contracts and Grants, San Francisco, CA 94143. Grant: $307,692.

8. University of Arizona, Mr. Corky Poster, University of Arizona, P.O. Box 3308, Tucson, AZ 85722. Grant: $400,000.

9. Research Foundation of CUNY/Lehman College CUNY, Dr. Marzie Jafari, Research Foundation of CUNY/Lehman College CUNY, 250 Bedford Park Boulevard West (2501 Grand Concourse), Bronx, NY 10648. Grant: $354,109.

10. Research Foundation of SUNY, Mr. Jeffery Schieder, Research Foundation of SUNY, 520 Lee Entrance, The UB Commons, Suite 211, Amherst, NY 14228. Grant: $359,050.

11. Research Foundation of CUNY for Bronx Community College, Ms. Carin Savage, Research Foundation of CUNY for Bronx Community College, University Avenue and West 181 Street, Bronx, NY 10453. Grant: $400,000.

12. Massachusetts Institute of Technology, Ms. Priscilla Caissie, Massachusetts Institute of Technology, 77 Massachusetts Avenue, Cambridge, MA 02139. Grant: $399,999.

13. Adams State College, Ms. Mary Hoffman, Adams State College, 208 Edgemont Street, School of Business, Room 115, Alamosa, CO 81101. Grant: $400,000.

COPC New Directions

1. Northern Essex College, Mrs. Mayte Rivera, Northern Essex College, 79 Amesbury Street, Lawrence, MA 01830. Grant: $198,343.

2. University of Northern Iowa, Mr. R. Allen Hays, University of Northern Iowa, 122 Land Hall, Grants and Contract Administration, Cedar Falls, IA 50614. Grant: $199,943.

3. Louisiana State University and A&M College, Dr. Katrice Albert, Louisiana State University and A&M College, 330 Thomas Boyd, Baton Rouge, LA 70803. Grant: $198,923.

4. Research Foundation of the State University at Binghampton, Ms. Allison Alden, Research Foundation of the State University at Binghampton, P.O. Box 6000, Bingham, NY 13760. Grant: $199,999.

5. Curators of the University of Missouri at St. Louis, Ms. Kay Gasen, Curators of the University of Missouri at St. Louis, One University Boulevard, St. Louis, MO 63121. Grant: $199,893.

6. University of Denver (Colorado Seminary), Ms. Lynn Backstrom-Funk, University of Colorado (Colorado Seminary), 2199 South University Boulevard, Denver, CO 80208. Grant: $200,000.

7. Board of Regents for the University of Nebraska-Lincoln, Dr. Miguel Carranza, Board of Regents for the University of Nebraska-Lincoln, 312 N. 14th Street, Alexander Building West, Lincoln, NE 68508. Grant: $199,952.

Dated: May 26, 2006.
Darlene F. Williams,
Assistant Secretary.

[FR Doc. E6-8533 Filed 6-1-06; 8:45 am]

BILLING CODE 4210-67-P